ENVIRONMENTAL PROTECTION AGENCY

[EPA-HQ-OAR-2003-0085; FRL-9696-01-OMS]

Information Collection Request Submitted to OMB for Review and Approval; Comment Request; NESHAP for Radionuclides (Renewal)

AGENCY: Environmental Protection Agency (EPA).

ACTION: Notice.

SUMMARY: The Environmental Protection Agency (EPA) has submitted an information collection request (ICR), NESHAP for Radionuclides (EPA ICR Number 1100.17, OMB Control Number 2060-0191) to the Office of Management and Budget (OMB) for review and approval in accordance with the Paperwork Reduction Act . This is a proposed extension of the ICR, which is currently approved through May 31, 2022. In addition, the Agency proposes the consolidation of this ICR with OMB Control Number 2060-0706, which was established to address the information collection requirements created by the revisions to NESHAP subpart W in 2017. All information collection required would then be included in a single ICR, together with the information collection requirements of subparts B, K, and R. Public comments were previously requested via the Federal Register on October 4, 2020 during a 60-day comment period. This notice allows for an additional 30 days for public comments. A fuller description of the ICR is given below, including its estimated burden and cost to the public. An agency may not conduct or sponsor and a person is not required to respond to a collection of information unless it displays a currently valid OMB control number.

DATES: Additional comments may be submitted on or before April 25, 2022.

ADDRESSES: Submit your comments, referencing Docket ID Number EPA-HQ-OAR-2003-0085, online using www.regulations.gov (our preferred method) or by mail to: EPA Docket Center, Environmental Protection Agency, Mail Code 2821T, 1200 Pennsylvania Ave. NW, Washington, DC 20460. EPA's policy is that all comments received will be included in the public docket without change including any personal information provided, unless the comment includes profanity, threats, information claimed to be Confidential Business Information (CBI), or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Jonathan P. Walsh, Radiation Protection Division, Office of Radiation and Indoor Air, Mail Code 6608T, Environmental Protection Agency, 1200 Pennsylvania Ave. NW, Washington, DC 20460; telephone number: 202-343-9238; fax number: 202-343-2304; email address: walsh.jonathan@epa.gov.

SUPPLEMENTARY INFORMATION: Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: On December 15, 1989, pursuant to Section 112 of the Clean Air Act as amended in 1977 (42 U.S.C. 1857), the Environmental Protection Agency (EPA) promulgated National Emission Standards for Hazardous Air Pollutants (NESHAP) regulations to control radionuclide emissions from several source categories. The regulations are codified at 40 CFR part 61. Of the eight subparts (B, H, I, K, Q, R, T and W) included in the 1989 rule, as currently amended, four apply to privately-operated facilities. In addition to requiring operational practices that limit emissions, subparts B, K, R, and W impose radionuclide dose and/or emission limits, respectively, to underground uranium mines, elemental phosphorous plants, phosphogypsum stacks, and uranium mill tailings impoundments. Facilities must inspect impoundments, measure radionuclide emissions, perform analyses or calculations per EPA procedures, and report the results to the EPA.

Information collected is used by the EPA to ensure that public health and the environment continue to be protected from the hazards of airborne radionuclides by compliance with these standards. Compliance is demonstrated through emissions testing and dose calculation when appropriate.

Form Numbers: None.

Respondents/affected entities: The North American Industry Classification System (NAICS) codes of facilities associated with the activity of the respondents are: (1) Elemental Phosphorous—325180, (2) Phosphogypsum Stacks—212392, (3) Underground Uranium Mines—212291, and (4) Uranium Mill Tailings—212291.

Respondent's obligation to respond: Mandatory (CAA, Sec, 112; 40 CFR part 61).

Estimated number of respondents: 25 (total).

Frequency of response: Monthly, annual, or one-time depending on the source category and respondent activity.

Total estimated burden: 4,146 hours (per year). Burden is defined at 5 CFR 1320.03(b).

Total estimated cost: $632,392 (per year), which includes $338,600 annualized capital or operation and maintenance costs.

Changes in the Estimates: Total estimated respondent hours increased from 1,880 hours in the previous approved version of this ICR to 4,146. The primary source of this increase was the consolidation of this ICR with ICR 2060-0706. 1,806 hours of burden that were approved by OMB in 2021 for ICR 2060-0706 were added. Additionally, while no Subpart B facilities were reporting at the time of the last renewal in 2018, the Agency identified two respondents that are likely to submit annual reports in 2021. These two responses were added to the ICR, adding 460 hours of labor and $10,600 of non-labor cost to the burden that was approved in 2019. For Subparts K, R, and W, there were no changes to the number of respondents, the annual time burden, or the annual non-labor cost compared to the most recent approvals of these ICRs. The requested burden reflects the sum of the two ICRs that are being consolidated.

Courtney Kerwin,
Director, Regulatory Support Division.

[FR Doc. 2022-06351 Filed 3-24-22; 8:45 am]

BILLING CODE 6560-50-P